DEPARTMENT OF TRANSPORTATION

Federal Motor Carrier Safety Administration

49 CFR Parts 385, 386, 390, and 395

[Docket No. FMCSA-2011-0373]

Hours of Service of Motorcoach Drivers

AGENCY: Federal Motor Carrier Safety Administration (FMCSA), DOT.

ACTION: Notice of public listening session.

SUMMARY: FMCSA announces that it will hold a public listening session to solicit information, concepts, ideas, and information on hours-of-service (HOS) requirements for motorcoach drivers. Specifically, the Agency would like to know what factors, issues, and data may be pertinent as it considers development of a rulemaking on these requirements. The session, which will be held in Grapevine, Texas, will allow interested persons to present comments, views, and relevant new research. This listening session will be recorded and a transcript of the public meeting will be placed in the docket for FMCSA's consideration, as well as all comments submitted during the session. The listening session will also be webcast via the Internet.

DATES: The listening session will be held on Monday, January 9, 2012, in Grapevine, TX (near Dallas, TX). The listening session will be held from 10 a.m. until noon, CT, and from 2:30 p.m. until 4:30 p.m. CT, or earlier, if all participants wishing to express their views have done so.

ADDRESSES: The January 9, 2012, meeting will be held at the Gaylord Texan Resort & Convention Center, 1501 Gaylord Trail, Grapevine, TX 76051-1945. The hotel telephone number is 1-(817) 778-2000.

Internet Address for Live Webcast. FMCSA will post specific information on how to participate via the Internet on the FMCSA Web site at http://www.fmcsa.dot.gov.

You may submit comments bearing the Federal Docket Management System (FDMS) Docket ID FMCSA-2004-19608 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery or Courier: West Building Ground Floor, Room W12-140, 1200 New Jersey Avenue SE., Washington, DC, between 9 a.m. and 5 p.m., ET, Monday through Friday, except Federal Holidays.

• Fax: 1-(202) 493-2251.

Each submission must include the Agency name and the docket number for this notice. Note that DOT posts all comments received without change to http://www.regulations.gov, including any personal information included in a comment. Please see the Privacy Act heading below.

Docket: For access to the docket to read background documents or comments, go to www.regulations.gov at any time or visit Room W12-140 on the ground level of the West Building, 1200 New Jersey Avenue SE., Washington, DC, between 9 a.m. and 5 p.m., ET, Monday through Friday, except Federal holidays. The on-line Federal document management system is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review DOT's Privacy Act Statement for the Federal Docket Management System published in the Federal Register on January 17, 2008 (73 FR 3316), or you may visit http://edocket.access.gpo.gov/2008/pdf/E8-785.pdf.

FOR FURTHER INFORMATION CONTACT: For information concerning the listening session or the live webcast, please contact Ms. Shannon L. Watson, Senior Advisor for Policy, FMCSA, (202) 385-2395.

If you need sign language assistance to participate in this HOS listening session, also contact Ms. Shannon L. Watson, at the above phone number, by Thursday, January 6, 2012, to allow us to arrange for such services. There is no guarantee that interpreter services requested on short notice can be provided.

SUPPLEMENTARY INFORMATION:

I. Background

The HOS requirements for motorcoach operators have not been substantially revised in several decades. The FMCSA did not include changes to the motorcoach HOS requirements in its April 28, 2003 final rule (68 FR 22456) concerning HOS requirements for truck drivers or in subsequent revisions of that rule because the Agency did not have enough data and information on motorcoach operations to form the basis of a rulemaking. Motorcoach operations differ significantly from trucking operations and the information upon which the Agency relied for its truck drivers' rule did not address the unique fatigue issues associated with the scheduling and operating practices of the motorcoach industry.

The current HOS rules for passenger-carrying commercial motor vehicle (CMVs) operations allow up to 10 hours of driving time following 8 consecutive hours off duty. Driving is prohibited after the operator has accumulated 15 hours of on-duty time following 8 consecutive hours off duty (15-hour rule). However, miscellaneous off-duty periods during the day are not counted in the 15-hour window. Therefore, the amount of time between the beginning of the work day and driver completing all driving tasks may exceed 15 hours.

With regard to weekly limitations, drivers of passenger-carrying CMVs are prohibited from driving after accumulating: 60 hours of on-duty time in any 7 consecutive days if the employing motor carrier does not operate CMVs every day of the week; or, 70 hours in any period of 8 consecutive days if the employing motor carrier operates CMVs every day of the week.

II. Meeting Participation and Information FMCSA Seeks From the Public

The listening session is open to the public. Speakers' remarks will be limited to 5 minutes each. The public may submit material to the FMCSA staff at the session for inclusion in the public docket, FMCSA-2011-0373.

The Agency seeks data and answers relating to the following issues and questions. The comments sought below may be submitted in written form at the session and summarized verbally, if desired.

1. Driving Time. FMCSA seeks information or data that examine fatigue and safety differences associated with different driving time periods.

2. Duty Time/Driving Window. FMCSA solicits information on patterns of work for motorcoach drivers.

3. Time-On-Task (TOT) Function. The Agency seeks comments and information on methods for evaluating fatigue associated with the time motorcoach operators spend on the actual driving task during the work day. The Agency is interested in suggestions for estimating TOT effects, especially information on where it might obtain data on exposure and other motorcoach driver characteristics that would enable it to estimate how or whether crash risk varies over successive hours of daily driving.

4. Cumulative Fatigue. The Agency seeks comments and information on the effects of cumulative fatigue during the work week, particularly in the form of scientific studies or data that would allow evaluation of cumulative fatigue and its impact on workplace safety, motorcoach driver safety performance, and productivity.

III. Alternative Media Broadcasts During and Immediately After the Listening Session on January 9, 2012

FMCSA will webcast the listening session on the Internet. Specific information on how to participate via the Internet and the telephone access number will be on the FMCSA Web site at http://www.fmcsa.dot.gov. FMCSA will docket the transcripts of the webcast and a separate transcription of the listening session that will be prepared by an official court reporter.

Issued on: December 21, 2011.
Larry W. Minor,
Associate Administrator for Policy.

[FR Doc. 2011-33228 Filed 12-27-11; 8:45 am]

BILLING CODE 4910-EX-P